DEPARTMENT OF HEALTH AND HUMAN SERVICES

Health Resources and Services Administration

Agency Information Collection Activities; Proposed Collection; Comment Request

In compliance with the requirement for opportunity for public comment on proposed data collection projects (section 3506(c)(2)(A) of Title 44, United States Code, as amended by the Paperwork Reduction Act of 1995, Public Law 104-13), the Health Resources and Services Administration (HRSA) publishes periodic summaries of proposed projects being developed for submission to OMB under the Paperwork Reduction Act of 1995. To request more information on the proposed project or to obtain a copy of the data collection plans and draft instruments, call the HRSA Reports Clearance Officer on (301) 443-1129.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology.

Proposed Project: The Health Education Assistance Loan (HEAL) Program: Forms (OMB No. 0915-0034) Extension. This clearance request is for extension of approval for four HEAL forms: the Lender's Application for Contract of Federal Loan Insurance (used by lenders to make application to the HEAL insurance program); the Lender's Manifest (used by the lender to report recent HEAL loan activity); the Loan Transfer Statement (used by the lender to report the transfer of a HEAL loan); and the Borrower Status Request (completed by the borrower and the borrower's employer and used by the lender to determine eligibility for deferment). The reports assist the Department in protecting its investment in this loan insurance program.

The estimate of burden for the forms are as follows:

HRSA form | Number of­ respondents | Responses per­ respondent | Total responses | Hours per­ response | Total burden hours
Lender's application for contract of Federal loan insurance | 32 | 1 | 32 | 8 min | 4
Lender's manifest | 9 | 331 | 2,979 | 5 min | 247
Loan transfer statement | 32 | 265 | 8,480 | 10 min | 1,408
Borrower status request:
Borrowers | 12,180 | 1 | 12,180 | 10 min | 2,022
Employers | 7,550 | 1.613 | 12,180 | 5 min | 1,011
Total | 19,803 |  | 35,851 |  | 4,692

Send comments to Susan G. Queen, Ph.D., HRSA Reports Clearance Officer, Room 14-33, Parklawn Building, 5600 Fishers Lane, Rockville, MD 20857. Written comments should be received within 60 days of this notice.

Dated: February 23, 2000.
Jane Harrison,
Director Division of Policy Review and Coordination.

[FR Doc. 00-4732 Filed 2-28-00; 8:45 am]

BILLING CODE 4160-15-P